DEPARTMENT OF TRANSPORTATION

Federal Aviation Administration

14 CFR Part 71

[Docket No. FAA-2017-0983 Airspace Docket No. 17-AWP-24]

Amendment of Class E Airspace; Hawthorne, NV

AGENCY: Federal Aviation Administration (FAA), DOT.

ACTION: Final rule, technical amendment.

SUMMARY: This final rule technical amendment amends the legal description of Class E Airspace extending upward from 700 feet above the surface at Hawthorne Industrial Airport, Hawthorne, NV, to correct a clerical error. The airspace legal description inadvertently omits the word “radius” and defined the airspace boundary “within 3.6 miles of” instead of “within a 3.6-mile radius of” the airport.

DATES: Effective 0901 UTC, November 27, 2017. The Director of the Federal Register approves this incorporation by reference action under Title 1, Code of Federal Regulations, part 51, subject to the annual revision of FAA Order 7400.11 and publication of conforming amendments.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Industrial Airport, Hawthorne, NV, to support IFR operations at the airport.

History

The FAA recently published a rule in the Federal Register (82 FR 37514, August 11, 2017) Docket No. FAA-2017-0297, establishing Class E airspace extending upward from 700 feet above the surface at Hawthorne Industrial Airport, Hawthorne, NV, that contained a clerical error in the airspace legal description. The word `radius' was omitted from the sentence that reads “. . . within 3.6 miles of the Hawthorne Industrial Airport. . . .”

Class E airspace designations are published in paragraphs 6005 of FAA Order 7400.11B dated August 3, 2017, and effective September 15, 2017, which is incorporated by reference in 14 CFR part 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by correcting a clerical error in the regulatory text of Class E airspace extending upward from 700 feet above the surface at Hawthorne Industrial Airport, Hawthorne, NV. The text is corrected to read “That airspace extending upward from 700 feet above the surface within a 3.6-mile radius of Hawthorne Industrial Airport. . . .”

Section 553(b)(3)(B) of the Administrative Procedures Act (5 U.S.C.) authorizes agencies to dispense with notice and comment procedure when the agency for “good cause” finds that these procedures are “impracticable, or contrary to the public interest.” As published, the omission of the word “radius” in this regulation may prove to be misleading. Accordingly, action is taken herein to add the word “radius” to the airspace description for Hawthorne Industrial Airport, therefore, in the interest of flight safety, I find that notice and public procedure under 5 U.S.C. 553(b) are impracticable and contrary to the public interest.

Section 553(d) of the Administrative Procedures Act (5 U.S.C.) authorizes agencies to determine an effective date of less than 30 days after publication for good cause found and published with the rule. In consideration of the need to correct the airspace description for Hawthorne Industrial Airport and to avoid confusion on the part of pilots flying in the vicinity of airport, the FAA finds good cause for making this amendment effective in less than 30 days in order to promote the safe and efficient handling of air traffic in the area.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, effective September 15, 2017, is amended as follows:

Paragraph 6005 Class E Surface Area Airspace.

* * * * *

AWP NV E5 Hawthorne, NV [Amended]

Hawthorne Industrial Airport, NV

(Lat. 38°32′42″ N., long. 118°37′57″ W.)

That airspace extending upward from 700 feet above the surface within a 3.6-mile radius of Hawthorne Industrial Airport and within 2 miles each side of a line extending from lat. 38°32′25″ N., long. 118°37′26″ W.; to lat. 38°28′43″ N., long. 118°27′48″ W.; to lat. 38°28′49″ N., long. 118°24′19″ W.; to lat. 38°32′06″ N., long. 118°18′07″ W.

Issued in Seattle, Washington, on November 15, 2017.
Brian J. Johnson,
Acting Manager, Operations Support Group, Western Service Center.

[FR Doc. 2017-25420 Filed 11-24-17; 8:45 am]

BILLING CODE 4910-13-P